DEPARTMENT OF TRANSPORTATION

Federal Aviation Administration

14 CFR Part 39

[Docket No. FAA-2011-0039; Directorate Identifier 2010-NM-184-AD; Amendment 39-16605; AD 2011-04-05]

RIN 2120-AA64

Airworthiness Directives; Airbus Model A340-200, -300, -500, and -600 Series Airplanes

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI (European Aviation Safety Agency AD 2009-0192) describes the unsafe condition as:

Performing some quality tests on material, Airbus found that some 300M steel forgings used to manufacture certain landing gear components were below specification limits. Adapted airworthiness limitations were introduced in Airbus A340 Airworthiness Limitations Section (ALS) Part 1 “Safe Life Airworthiness Limitation Items (SL ALI)” for different source route codes.

* * * * *

This [EASA] AD introduces more restrictive life limitations for several landing gear components.

The MCAI (EASA AD 2010-0131) describes the unsafe condition as:

* * * * *

The revision 04 of Airbus A330 and A340 ALS Part 1 introduces more restrictive maintenance requirements and/or airworthiness limitations as specified in Airbus A330 and A340 ALS Part 1 revision 04.

The unsafe condition is failure of certain life-limited parts, which could result in reduced structural integrity of the airplane. This AD requires actions that are intended to address the unsafe condition described in the MCAI.

DATES: This AD becomes effective March 2, 2011.

The Director of the Federal Register approved the incorporation by reference of a certain publication listed in the AD as of March 2, 2011.

We must receive comments on this AD by April 1, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Discussion

The European Aviation Safety Agency (EASA), which is the aviation authority for the Member States of the European Community, has issued EASA Airworthiness Directives 2010-0131, dated June 28, 2010 and EASA AD 2009-0192, dated August 28, 2009 (referred to after this as “the MCAI”), to correct an unsafe condition for the specified products. The MCAI (EASA AD 2009-0192) states:

Performing some quality tests on material, Airbus found that some 300M steel forgings used to manufacture certain landing gear components were below specification limits. Adapted airworthiness limitations were introduced in Airbus A340 Airworthiness Limitations Section (ALS) Part 1 “Safe Life Airworthiness Limitation Items (SL ALI)” for different source route codes.

A new source route (S3) has since been investigated and has led to another set of adapted airworthiness limitations for affected main fittings.

In addition, further tests based on a new method for damage load selection led to the limitation changes for A340-500/-600 centre landing gear main fitting part number (P/N) 50-1105236-01 and P/N 1105296-00.

This [EASA] AD introduces more restrictive life limitations for several landing gear components.

The MCAI (EASA AD 2010-0131) describes the unsafe condition as:

The airworthiness limitations are currently distributed in the Airbus A330 and A340 Airworthiness Limitations Section (ALS).

The airworthiness limitations applicable to the Safe Life Airworthiness Limitation Items (SL ALI) are given in Airbus A330 and A340 ALS Part 1, which are approved by the European Aviation Safety Agency (EASA).

The revision 04 of Airbus A330 and A340 ALS Part 1 introduces more restrictive maintenance requirements and/or airworthiness limitations as specified in Airbus A330 and A340 ALS Part 1 revision 04.

This new [EASA] AD supersedes EASA AD 2007-0300, EASA AD 2008-0152 and EASA AD 2009-0191 and requires the implementation of the new or more restrictive maintenance requirements and/or airworthiness limitations as specified in Airbus A330 and A340 ALS Part 1 revision 04.

The unsafe condition is failure of certain life-limited parts, which could result in reduced structural integrity of the airplane. You may obtain further information by examining the MCAI in the AD docket.

Relevant Service Information

Airbus has issued A340 ALS Part 1, Safe Life Airworthiness Limitation Items Revision 05, dated July 29, 2010. This document provides for mandatory replacement times, structural inspection intervals, and related structural inspection procedures or other procedures (e.g., modifications). The actions described in this service information are intended to correct the unsafe condition identified in the MCAI.

Other Relevant Rulemaking

On April 20, 2006, we issued AD 2006-09-07, Amendment 39-14577 (71 FR 25919, May 3, 2006), for all Airbus Model A330-200 and -300, and A340-200 and -300 series airplanes, and A340-541 and -642 airplanes. That AD requires operators to revise the Airworthiness Limitations section of the Instructions for Continued Airworthiness to incorporate new information. That information includes, for all affected airplanes, decreased life limit values for certain components; and for Model A330-200 and -300 series airplanes, new inspections, compliance times, and new repetitive intervals to detect fatigue cracking, accidental damage, or corrosion in certain structures. That AD results from a revision to section 9-1 of the Airbus A330 and A340 maintenance planning documents (MPDs) for life limits/monitored parts, and section 9-2 of the Airbus A330 MPD for airworthiness limitations items. Accomplishing the revision in paragraph (g) of this AD eliminates the need for the revision required by paragraph (f)(2) of AD 2006-09-07 for Model A340 airplanes.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

There are no products of this type currently registered in the United States. However, this rule is necessary to ensure that the described unsafe condition is addressed if any of these products are placed on the U.S. Register in the future.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a Note within the AD.

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2011-0039; Directorate Identifier 2010-NM-184-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-04-05 Airbus: Amendment 39-16605. Docket No. FAA-2011-0039; Directorate Identifier 2010-NM-184-AD.

Effective Date

(a) This airworthiness directive (AD) becomes effective March 2, 2011.

Affected ADs

(b) This AD affects AD 2006-09-07, Amendment 39-14577.

Applicability

(c) This AD applies to Airbus Model A340-211, -212, and -213 airplanes; A340-311, -312, and -313 airplanes; A340-541 airplanes; and A340-642 airplanes; certificated in any category; all manufacturer serial numbers.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (j)(1) of this AD. The request should include a description of changes to the required inspections that will ensure the continued operational safety of the airplane.

Subject

(d) Air Transport Association (ATA) of America Code 05.

Reason

(e) The mandatory continuing airworthiness information (MCAI) (European Aviation Safety Agency (EASA) AD 2009-0192) states:

Performing some quality tests on material, Airbus found that some 300M steel forgings used to manufacture certain landing gear components were below specification limits. Adapted airworthiness limitations were introduced in Airbus A340 Airworthiness Limitations Section (ALS) Part 1 “Safe Life Airworthiness Limitation Items (SL ALI)” for different source route codes.

* * * * *

This [EASA] AD introduces more restrictive life limitations for several landing gear components.

The MCAI (EASA AD 2010-0131) describes the unsafe condition as:

* * * * *

The revision 04 of Airbus A330 and A340 ALS Part 1 introduces more restrictive maintenance requirements and/or airworthiness limitations as specified in Airbus A330 and A340 ALS Part 1 revision 04.

The unsafe condition is failure of certain life-limited parts, which could result in reduced structural integrity of the airplane.

Compliance

(f) You are responsible for having the actions required by this AD performed within the compliance times specified, unless the actions have already been done.

Revise the Maintenance Program

(g) Within 3 months after the effective date of this AD: Revise the maintenance program by incorporating Airbus A340 ALS Part 1—Safe Life Airworthiness Limitation Items (SL ALI), Revision 05, dated July 29, 2010. At the times specified in the Airbus A340 ALS Part 1—SL ALI, Revision 05, dated July 29, 2010, comply with all applicable maintenance requirements and associated airworthiness limitations specified in Airbus A340 ALS, Part 1—SL ALI, Revision 05, dated July 29, 2010.

Alternative Intervals or Limits

(h) Except as provided by paragraph (j)(1) of this AD, after accomplishing the actions specified in paragraph (g) of this AD, no alternative to the replacements, replacement intervals, or limitations specified in paragraph (g) of this AD may be used.

Method of Compliance With Paragraph (f)(2) of AD 2006-09-07

(i) Doing the revision required by paragraph (g) of this AD terminates the requirements of paragraph (f)(2) of AD 2006-09-07 for that Model A340 airplane only.

FAA AD Differences

Note 2: This AD differs from the MCAI and/or service information as follows: Although the MCAI specifies a compliance time of “from the effective date of this AD” for revising the maintenance program to incorporate Airbus A340 ALS Part 1—Safe Life Airworthiness Limitation Items, Revision 05, dated July 29, 2010; this AD requires the action be done within 3 months after the effective date of this AD.

Other FAA AD Provisions

(j) The following provisions also apply to this AD:

(1) Alternative Methods of Compliance (AMOCs): The Manager, International Branch, ANM-116, Transport Airplane Directorate, FAA, has the authority to approve AMOCs for this AD, if requested using the procedures found in 14 CFR 39.19. Send information to ATTN: Vladimir Ulyanov, Aerospace Engineer, International Branch, ANM-116, Transport Airplane Directorate, FAA, 1601 Lind Avenue, SW., Renton, Washington 98057-3356; telephone (425) 227-1138; fax (425) 227-1149. Before using any approved AMOC on any airplane to which the AMOC applies, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(k) Refer to MCAI EASA Airworthiness Directive 2010-0131, dated June 28, 2010, and 2009-0192, dated August 28, 2009; and Airbus A340 ALS Part 1—Safe Life Airworthiness Limitation Items, Revision 05, dated July 29, 2010; for related information.

Material Incorporated by Reference

(l) You must use the service information contained in Airbus A340 Airworthiness Limitations Section, Part 1—Safe Life Airworthiness Limitations Items, Revision 05, dated July 29, 2010; to do the actions required by this AD, unless the AD specifies otherwise.

(1) The Director of the Federal Register approved the incorporation by reference of this service information under 5 U.S.C. 552(a) and 1 CFR part 51.

(2) For service information identified in this AD, contact Airbus SAS—Airworthiness Office—EAL, 1 Rond Point Maurice Bellonte, 31707 Blagnac Cedex, France; telephone +33 5 61 93 36 96; fax +33 5 61 93 45 80; e-mail airworthiness.A330-A340@airbus.com; Internet http://www.airbus.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on February 3, 2011.
Ali Bahrami,
Manager, Transport Airplane Directorate, Aircraft Certification Service.

[FR Doc. 2011-3067 Filed 2-14-11; 8:45 am]

BILLING CODE 4910-13-P